DEPARTMENT OF THE INTERIOR

Fish and Wildlife Service

Emergency Exemption Issuance

AGENCY: Fish and Wildlife Service, Interior.

ACTION: Notice of Issuance of Permit.

SUMMARY: The Hawk Creek Wildlife Center, Inc., has been authorized, via permit number PRT-TE050080-0, by the U.S. Fish and Wildlife Service's (Service) Region 5 to transfer and possess one specific female ocelot, Felis pardalis.

FOR FURTHER INFORMATION CONTACT: Diane Lynch, Regional Endangered Species Permits Coordinator, at 413-253-8628.

SUPPLEMENTARY INFORMATION: The 30-day public comment period required by the Endangered Species Act (Act) of 1973, as amended, was waived in accordance with section 10(c) of the Act. The Service determined that due to the current facility's loss of its U.S. Department of Agriculture license, the need to immediately find new locations for the animals being held there, the relatively small timeframe an animal can be human imprinted, and the age (8 weeks old) of this animal, there was no reasonable alternative available to the applicant. This ocelot is captive bred and captive born. It will be used for educational purposes and will not be used for propagation. This animal is scheduled to be transferred to Hawk Creek Wildlife Center, Inc., by November 20, 2001.

Dated: November 21, 2001.
Richard O. Bennett,
Acting Regional Director,

[FR Doc. 01-29945 Filed 12-3-01; 8:45 am]

BILLING CODE 4310-55-P